DEPARTMENT OF AGRICULTURE

Forest Service

Hood/Willamette Resource Advisory Committee (RAC)

AGENCY: Forest Service, USDA.

ACTION: Action of meeting.

SUMMARY: The Hood/Willamette Resource Advisory Committee (RAC) will meet on Friday, June 29, 2006. The meeting is scheduled to begin at 9 a.m. and will conclude at approximately 12 p.m. The meeting will be held at the Holiday Inn Express; 105 Opal Street, NE., Albany, Oregon; (541) 928-8820. The tentative agenda includes: (1) Recommendations on 2007 Projects; and (2) Public Forum.

The Public Forum is tentatively scheduled to begin at 9:15 a.m. Time allotted for individual presentations will be limited to 3-4 minutes. Written comments are encouraged, particularly if the material cannot be presented within the time limits for the Public Forum. Written comments may be submitted prior to the June 29th meeting by sending them to Designated Federal Official Donna Short at the address given below.

FOR FURTHER INFORMATION CONTACT: For more information regarding this meeting, contact Designated Federal Official Donna Short; Sweet Home Ranger District; 4431 Highway 20; Sweet Home, Oregon 97386; (541) 367-3540.

Dated: May 17, 2006.
Scott G. Fitzwilliams,
Deputy Forest Supervisor.

[FR Doc. 06-4852 Filed 5-24-06; 8:45 am]

BILLING CODE 3410-11-M